FEDERAL MARITIME COMMISSION

[Docket No. 22-31]

TPG Pressure, Inc. Complainant v. Epic Freight Solutions LLC., and Omni Logistics LLC, Respondents; Notice of Filing of Amended Complaint and Assignment

Served: February 27, 2023.

Notice is given that a First Amended Verified Complaint has been filed with the Federal Maritime Commission (Commission) by TPG Pressure, Inc. hereinafter “Complainant,” against Epic Freight Solutions LLC and Omni Logistics LLC, hereinafter “Respondents.” Complainant states that it is a corporation organized in the State of Texas. Complainant identifies the Respondents as limited liability companies with current mailing addresses in Dallas, Texas. Complainant states that Epic Freight Solutions LLC is organized under the laws of the State of Wyoming, and Omni Logistics LLC is organized under the laws of the State Delaware. Both are identified by Complainant as a Non-Vessel-Operating Common Carriers and common carriers or ocean transportation intermediaries.

Complainant alleges that Respondents violated 46 U.S.C. 41102(c), 41102(d), and 41104(a) in their practices and assessments of charges, including demurrage and other non-freight charges, related to the movement of containers. The full text of the complaint can be found in the Commission's Electronic Reading Room at https://www2.fmc.gov/readingroom/proceeding/22-31/.

This proceeding has been assigned to Office of Administrative Law Judges. The initial decision of the presiding officer in this proceeding shall be issued by November 29, 2023, and the final decision of the Commission shall be issued by June 12, 2024.

William Cody,
Secretary.

[FR Doc. 2023-04413 Filed 3-2-23; 8:45 am]

BILLING CODE 6730-02-P